NUCLEAR REGULATORY COMMISSION

Withdrawal of Regulatory Guide

AGENCY: Nuclear Regulatory Commission.

ACTION: Withdrawal of Regulatory Guide 9.4.

FOR FURTHER INFORMATION CONTACT: Marquis P. Orr, U.S. Nuclear Regulatory Commission, Washington, DC 20555-0001, telephone: 301-415-6373 or e-mail MPO1@nrc.gov.

SUPPLEMENTARY INFORMATION:

I. Introduction

The U.S. Nuclear Regulatory Commission (NRC) is withdrawing Regulatory Guide 9.4, “Suggested Format for Cash Flow Statements Submitted as Guarantees of Payment of Retrospective Premiums,” which was issued for comment in September 1978. Regulatory Guide 9.4 proposes a format for cash flow statements to be submitted by the licensee to demonstrate compliance with title 10 of the Code of Federal Regulations (10 CFR), subpart 140.21, “Licensee guarantees of payment of deferred premiums.” The method described in Regulatory Guide 9.4 unnecessarily duplicates other financial and insurance verification documents submitted by the licensees to demonstrate compliance with other sections of 10 CFR part 140. Rather than submit separate cash flow and financial assurance statements, licensees may submit proof of sufficient insurance bonding through American Nuclear Insurers or similar insurance groups. This insurance bond meets the requirements of 10 CFR 140.21(a) and eliminates the need for a separate cash flow statement.

II. Further Information

Withdrawal of Regulatory Guide 9.4 does not, in and of itself, alter any prior or existing licensing commitments based on its use. The guidance provided in this regulatory guide is no longer necessary. Regulatory guides may be withdrawn when their guidance is superseded by congressional action, the methods or techniques described in the regulatory guide no longer describe a preferred approach, or the regulatory guide does not provide useful information.

Regulatory guides are available for inspection or downloading through the NRC's public Web site under “Regulatory Guides” in the NRC's Electronic Reading Room at http://www.nrc.gov/reading-rm/doc-collections. Regulatory guides are also available for inspection at the NRC's Public Document Room (PDR), Room O-1F21, One White Flint North, 11555 Rockville Pike, Rockville, MD 20852-2738. The PDR's mailing address is U.S. NRC PDR, Washington, DC 20555-0001. The PDR staff can be reached by telephone at 301-415-4737 or 800-397-4209, by fax at 301-415-3548, and by e-mail to pdr@nrc.gov.

Regulatory guides are not copyrighted and NRC approval is not required to reproduce them.

Dated at Rockville, Maryland, this 12th day of October 2007.
For the Nuclear Regulatory Commission.
Michael R. Johnson,
Deputy Director, Office of Nuclear Regulatory Research.

[FR Doc. E7-20742 Filed 10-19-07; 8:45 am]

BILLING CODE 7590-01-P